DEPARTMENT OF TRANSPORTATION

Pipeline and Hazardous Materials Safety Administration

Hazardous Materials: Notice of Actions on Special Permits

AGENCY: Pipeline and Hazardous Materials Safety Administration (PHMSA), DOT.

ACTION: Notice of actions on special permit applications.

SUMMARY: In accordance with the procedures governing the application for, and the processing of, special permits from the Department of Transportation's Hazardous Material Regulations, notice is hereby given that the Office of Hazardous Materials Safety has received the application described herein.

DATES: Comments must be received on or before February 11, 2022.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Copies of the applications are available for inspection in the Records Center, East Building, PHH-13, 1200 New Jersey Avenue Southeast, Washington, DC.

This notice of receipt of applications for special permit is published in accordance with part 107 of the Federal hazardous materials transportation law (49 U.S.C. 5117(b); 49 CFR 1.53(b)).

Issued in Washington, DC, on January 07, 2022.
Donald P. Burger,
Chief, General Approvals and Permits Branch.

Application No. | Applicant | Regulation(s) affected | Nature of the special permits thereof
Special Permits Data—Granted
14574-M | CMC Materials EC, Inc | 180.407(c), 180.407(e), 180.407(f) | To modify the special permit to authorize an additional cargo tank.
20351-M | Roeder Cartage Company, Incorporated | 180.407(c), 180.407(e), 180.407(f) | To modify the special permit to authorize an additional cargo tank.
21069-M | Uttam Composites, LLC | 173.302a, 178.71(l)(1) | To modify the special permit to authorize ISO 9712 as alternative to ISO 11515:2013 Section 9.1.1 certification.
21193-M | KULR Technology Corporation | 172.200, 172.300, 172.700(a), 172.400, 172.500, 172.600, 173.185(f) | To modify the special permit to authorize alternative inner packaging.
21216-M | Bren-Tronics, Inc | 172.101(j) | To modify the special permit to authorize alternative dunnage material.
21245-N | Rivian Automotive, LLC | 172.101(j) | To authorize the transportation of lithium batteries in excess of 35 kg by cargo-only aircraft.
21281-N | Highline-warren, LLC | 173.156(c)(1)(iv) | To authorize the transportation in commerce of limited quantities of certain hazardous materials on pallets that weight 1,350 pounds.
Special Permits Data—Denied
21254-N | Praxair Distribution, Inc | 173.301(f)(1) | To authorize the transportation in commerce Chlorine (UN1017) in DOT specification cylinders, UN standard cylinders prescribed in part 178 of 49 CFR, DOT special permit cylinders, or TC cylinders which are not equipped with pressure relief devices.
21290-N | Orion Engineered Carbons LLC | 171.23(b)(10)(iv)(A) | To authorize the transportation in commerce of Dinitrogen Tetroxide in non-DOT specification cylinders.
Special Permits Data—Withdrawn
21251-N | Luxfer Inc | 173.302a(a), 180.205 | To authorize the manufacture, marking, sale and use of non-DOT specification fully wrapped composite cylinders with load sharing aluminum liner with either aramid fiber or carbon fiber reinforcement, for use in aircraft with a limited number of filling cycles.

[FR Doc. 2022-00452 Filed 1-11-22; 8:45 am]

BILLING CODE 4910-60-P